DEPARTMENT OF ENERGY

Federal Energy Regulatory Commission

[ Docket Nos. PR13-26-000; PR13-29-000; PR13-30-000]

Michigan Consolidated Gas Company, DTE Gas Company, DTE Gas Company; Notice of Petition

Take notice that on January 28, 2013, in Docket No. PR13-26-000, and February 1, 2013, in Docket Nos. PR13-29-000, and PR13-30-000 (not consolidated), Michigan Consolidated Gas Company (MichCon) and DTE Gas Company (DTE Gas) filed to institute a name change to both itself from MichCon to DTE Gas and to its Tariff Title, and to elect its recently effective transportation rates recently approved by Michigan Public Service Commission. DTE Gas filed (1) in Docket No. PR13-29-000 a new baseline filing of their Statement of Operating Conditions (SOC) for services pursuant to its Order No. 63 limited blanket certificate, incorporating a new Tariff Title and (2) in Docket PR13-26-000 to cancel its current SOC. On February 1, 2013, in Docket No. PR13-30-000 DTE Gas filed to revise its new SOC to reflect the recent corporate name change from MichCon to DTE Gas, and pursuant to section 284.123 of the Commissions regulations, a petition for rate approval to elect its recently effective transportation rates on file with the Michigan Public Service Commission, as more fully detailed in the filing.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 7 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on Wednesday, February 20, 2013.

Dated: February 11, 2013.
Kimberly D. Bose,
Secretary.

[FR Doc. 2013-03702 Filed 2-15-13; 8:45 am]

BILLING CODE 6717-01-P